DEPARTMENT OF TRANSPORTATION

Federal Aviation Administration

Standard Content and Format for the Installation Instructions and Limitations Required by TSO-C127a, Rotorcraft, Transport Airplane, and Normal and Utility Airplane Seating Systems

AGENCY: Federal Aviation Administration (FAA), DOT.

ACTION: Notice of availability and requests for public comments.

SUMMARY: This notice announces the availability of and request comments on a draft policy memorandum. The draft policy memorandum recommends a standardized content and format for the installation instructions and limitations required by Technical Standard Order (TSO)—C127a, Rotorcraft, Transport Airplane, and Normal and Utility Airplane Seating Systems.

DATES: All comments must be received on or before August 28, 2003.

ADDRESSES: Send all comments on the draft policy memorandum to: Federal Aviation Administration, Aircraft Certification Service, Room 815, 800 Independence Avenue, SW., Washington, DC 20591. ATTN: Mr. Hal Jensen, AIR-120. Or, deliver comments to: Federal Aviation Administration, Room 815, 800 Independence Avenue, SW., Washington, DC 20591.

FOR FURTHER INFORMATION CONTACT: Mr. Hal Jensen, Aerospace Engineer, Federal Aviation Administration, Aircraft Certification Service, Aircraft Engineering Division, Technical Programs Branch, AIR-120, Room 815, 800 Independence Avenue, SW., Washington, DC 20591; Telephone (202) 267-8807; fax: (202) 267-5340; e-mail hal.jensen@faa.gov.

SUPPLEMENTARY INFORMATION:

Comments Invited

Interested persons are invited to comment on the draft policy memorandum listed in this notice by submitting such written data, views, or arguments as they desire to the above specified address. Comments received on the draft policy memorandum may be examined, before and after the comment closing date, in Room 815, FAA Headquarters Building, 800 Independence Avenue, SW., Washington, DC 20591, weekdays except Federal holidays, between 8:30 a.m. and 4:30 p.m. All communications received on or before the closing date for comments specified above will be considered by the Director of the Aircraft Certification Service before issuing the final policy.

Background

In 2000, the FAA and industry formed a team to explore ways to streamline certifying airplane seats. Since that first effort the team developed a plan that included reestablishing the TSOs for seats as a valid design approval and to the extent possible, maximize their content toward meeting the applicable airworthiness standards. The team determined that using standardized installation instructions and limitations (IIL) for TSO-C127a will help when TSO holders provide complete IILs that clearly define issues about the TSO installation. When using an IIL, the person(s) approving the installation needs only to determine the installed TSO article is correct. The proposed policy also recommends the use of a standardized format designed to help the person(s) approving the installation to understand the instructions.

How To Obtain Copies

A copy of the draft policy memorandum may be obtained via the Internet at, http://www.airweb.faa.gov/RGL, or by contacting the person listed in the section titled FOR FURTHER INFORMATION CONTACT.

Issued in Washington, DC, on July 25, 2003.
David W. Hempe,
Manager, Aircraft Engineering Division, Aircraft Certification Service.

[FR Doc. 03-19409 Filed 7-29-03; 8:45 am]

BILLING CODE 4910-13-M